DEPARTMENT OF COMMERCE

National Oceanic and Atmospheric Administration

RIN 0648-XI11

Pacific Fishery Management Council; Notice of Intent

AGENCY: National Marine Fisheries Service (NMFS), National Oceanic and Atmospheric Administration (NOAA), Commerce.

ACTION: Notice of intent to prepare an environmental impact statement (EIS); request for comments; preliminary notice of public scoping meetings.

SUMMARY: NMFS and the Pacific Fishery Management Council (Pacific Council) announce their intent to prepare an EIS in accordance with the National Environmental Policy Act (NEPA) of 1969 to analyze fishing conducted under the Pacific Coast Groundfish Fishery Management Plan.

DATES: Public scoping will be conducted through regular meetings of the Pacific Fishery Management Council and its advisory bodies. The Pacific Fishery Management Council is scheduled to consider actions and alternatives that are the subject of this proposed action at their June 8-13, 2008, meeting. The details of this and any other meetings related to this action will be announced in the Federal Register. Written comments will be accepted at the Pacific Council office through June 3, 2008.

ADDRESSES: You may submit comments, on issues and alternatives, identified by RIN: 0648-XI11 by any of the following methods:

• E-mail: 0910.EIS@noaa.gov. Include 0648-XI11 and enter “Scoping Comments” in the subject line of the message.

• Fax: 503-820-2299.

• Mail: Dr. Donald McIsaac, Pacific Fishery Management Council, 7700 NE Ambassador Pl., Suite 101, Portland, OR 97220.

FOR FURTHER INFORMATION CONTACT: Mr. John DeVore, Pacific Fishery Management Council, phone: 503-820-2280, fax: 503-820-2299 and email: john.devore@noaa.gov; or Kathe Hawe, NMFS Northwest Region NEPA Coordinator; phone: 206-526-6161 and email: Kathe.Hawe@noaa.gov.

Electronic Access

This Federal Register document is available on the Government Printing Office's Web site at: www.gpoaccess.gov/fr/index/html.

SUPPLEMENTARY INFORMATION:

Background and Need for Agency Action

There are more than 90 species managed under the Pacific Coast Groundfish Fishery Management Plan (groundfish FMP), seven of which have been declared overfished. The groundfish stocks support an array of commercial, recreational, and Indian tribal fishing interests in state and federal waters off the coasts of Washington, Oregon, and California. In addition, groundfish are also harvested incidentally in non-groundfish fisheries, most notably, the trawl fisheries for pink shrimp, ridgeback prawns, California halibut, and sea cucumber.

The proposed action is needed to establish commercial and recreational harvests levels in 2009-2010 that will ensure groundfish stocks are maintained at, or restored to, sizes and structures that will produce the highest net benefit to the nation, while balancing environmental and social values.

The Proposed Action

The proposed action is to implement management measures consistent with the requirements of the Magnuson-Stevens Fishery Conservation and Management Act (Magnuson-Stevens Act) that constrain total fishing mortality during 2009-2010 within limits that maintain fish stocks at, or rebuild them to, a level capable of producing maximum sustained yield (MSY), or to a stock size less than this if such stock size results in long-term net benefit to the nation.

These fishing mortality limits are harvest specifications that include acceptable biological catches (ABCs) and optimum yields (OYs) for groundfish species or species groups in need of particular protection; OYs may be represented by harvest guidelines or quotas for species that need individual management. Separate sets of ABCs and OYs will be specified for 2009 and 2010 as part of the multi-year management cycle for groundfish. The allocation of commercial OYs between the open access and limited entry segments of the fishery is also part of the proposed action.

The FMP, as amended by Amendment 17, requires that the groundfish specifications be evaluated and revised as necessary every two years, with separate ABCs and OYs established for each of the two years in the biennial period. Management measures designed to achieve the OYs will be established for each year and, as in the past, may vary from period to period within any one year. These specifications and management measures will be published in the Federal Register and made effective by January 1 of the first fishing year in the biennium (2009). The Magnuson-Stevens Act and the groundfish FMP also require that NMFS implement actions to prevent overfishing and to rebuild overfished stocks. These specifications include fish caught in state ocean waters (zero to three nautical miles [nm] offshore) as well as fish caught in the U.S. exclusive economic zone (3 to 200 nm offshore).

Alternatives

NEPA requires that agencies evaluate reasonable alternatives to the proposed action in an EIS. The purpose and need for agency action determines the range of reasonable alternatives. A preliminary set of alternatives was developed during the November 4-9, 2007, Council meeting. Alternatives are structured around a range of ABCs/OYs for assessed groundfish species. This range of ABCs/OYs is based on stock assessments, including new assessments for 16 of the groundfish species managed under the FMP.

Seven groundfish species are currently declared overfished and subject to rebuilding plans previously adopted by the Council. Based on new stock assessments and rebuilding analyses, three of these stocks have a markedly different target year for rebuilding than previously estimated, if the current harvest rates are maintained. Rebuilding plans for these species may have to be revised in order to meet the statutory requirement to rebuild in as short a time as possible, taking into account the appropriate factors.

For some species, ABC/OY ranges that would be used to develop alternatives may be based on consultations by the Council with state and federal agencies, Indian tribes, and the affected public on the allocation of harvest opportunity between sectors. Allocation decisions can affect OYs because different sectors may catch fish of different species and ages, allowing different sustainable harvest levels.

Based on a range of ABCs/OYs alternatives adopted at the November 2007 Council meeting, the Council chose a preliminary preferred ABCs/OYs alternative at their April 2008 meeting; a range of alternative management measures was also identified that will constrain total harvest mortality (across all fisheries intercepting groundfish) to within the preferred OYs. The Council is then scheduled to take final action to choose a preferred alternative that includes ABCs/OYs and associated management measures at their June 2008 meeting.

Restrictive management measures intended to rebuild overfished species have been adopted and implemented over the past several years for most commercial and recreational fishing sectors. Management measures intended to control the rate at which different groundfish species or species groups are taken in the fisheries include trip limits, bag limits, size limits, time/area closures, and gear restrictions. Large area closures, called Groundfish Conservation Areas (GCAs) or Rockfish Conservation Areas (RCAs), intended to reduce bycatch of overfished species, were first implemented in late 2002. A second important type of measure used to manage groundfish is the cumulative landing limit. Cumulative landing limits restrict the total weight of fish by species or species group that any one vessel may land during the limit period, which is normally two months. Different cumulative landing limits are established for areas north and south of 40° 10′ N. lat. (near Cape Mendocino, California) and for limited entry trawl, limited entry fixed gear, and open access fishery participants.

Preliminary Identification of Environmental Issues

A principal objective of the scoping and public input process is to identify potentially significant impacts to the human environment that should be analyzed in depth in the EIS. NMFS staff conducted internal scoping to determine the likely impacts of the proposed action on the human environment and identify potentially significant impacts. Based on this internal scoping, the following environmental components have been identified for impact evaluation: overfished groundfish, groundfish at precautionary and healthy levels, no-groundfish species, listed salmonids, the marine ecosystem and fish habitat, community and economic impacts, and cumulative impacts.

Public Scoping Process

Public scoping has already occurred as part of the Council's decision-making process and will continue through Council final action in June 2008. All decisions during the Council process benefit from written and oral public comments delivered prior to or during the Council meeting. These public comments are considered integral to scoping for developing this EIS. The Council chose the preliminary preferred ABCs/OYs alternative and refined the range of management measures at their April 5-12, 2008, meeting in Seattle, Washington at the Seattle Marriott Hotel-Sea Tac, 3201 S 176th Street, 98188-4094, 206-241-2000 or 800-314-0925. The Council is scheduled to finalize their preferred alternative at their June 8-13, 2008, meeting at the Crowne Plaza Mid Peninsula, 1221 Chess Drive, Foster City, California, 94404, 800-227-6963 or 650-570-5700. Public comment may be made under the agenda items when the Council will consider these proposed actions. The agendas for these meetings will be available from the Council website or by request from the Council office in advance of the meeting (see ADDRESSES). Written comments on the scope of issues and alternatives may also be submitted as described under ADDRESSES.

NMFS invites comments and suggestions on the scope of the analysis to be included in the draft EIS (DEIS). The scope includes the range of alternatives to be considered and potentially significant impacts to the human environment that should be evaluated in the NEPA document. In addition, NMFS is notifying the public that, in conjunction with the Council, it is beginning a full environmental analysis and decision-making process for this proposal, so interested or affected people may know how they can participate in the environmental analysis and contribute to the final decision.

A DEIS will be prepared for comment after Council final action. The comment period on the DEIS will be 45 days from the date the Environmental Protection Agency's notice of availability appears in the Federal Register. It is very important that those interested in this proposed action participate at that time. To be most helpful, comments on the NEPA document should be as specific as possible and may address the adequacy of the statement or merits of the alternatives discussed. It is also helpful if comments refer to specific pages or chapters of the NEPA document. Comments may also address the adequacy of the NEPA document or the merits of the alternatives formulated and discussed in the NEPA document. (Reviewers may wish to refer to the Council on Environmental Quality Regulations for implementing the procedural provisions of NEPA CFR 1503.3 in addressing these points.) Comments received, including the names and addresses of those who comment, will be considered part of the public record on this proposal and will be available for public inspection.

Authority: 16 U.S.C. 1801 et seq.

Dated: May 22, 2008.
Emily H. Menashes,
Acting Director, Office of Sustainable Fisheries, National Marine Fisheries Service.

[FR Doc. E8-12129 Filed 5-29-08; 8:45 am]

BILLING CODE 3510-22-S